DEPARTMENT OF HEALTH AND HUMAN SERVICES

Indian Health Service

120 Day Proposed Information Collection: Tribal Investment in Commercial Electronic Health Records

AGENCY: Indian Health Service, HHS.

ACTION: Notice and request for comments.

SUMMARY: In compliance with the Paperwork Reduction Act of 1995, the Indian Health Service (IHS) takes this opportunity to provide information on a new Office of Management and Budget (OMB) information collection, Control Number 0917-XXXX, titled, “Tribal Investment in Commercial Electronic Health Records.” This proposed information collection project has been granted an emergent review by OMB. The purpose of this notice is to provide the public a notice of the information sent directly to OMB.

A copy of the supporting statement is available at www.regulations.gov (see Docket ID IHS_FRDOC_0001).

DATES: September 15, 2021. Any comments regarding this information collection are best assured of having full effect if received within 120 days of the date of this publication.

Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact IHS by one of the following methods:

• Mail: Mitchell Thornbrugh, Director, Office of Information Technology, Indian Health Service, DHHS, 5600 Fishers Lane, Rockville, MD 20857.

• Phone: (240) 620-3117.

• Email: mitchell.thornbrugh@ihs.gov.

SUPPLEMENTARY INFORMATION: The IHS has requested emergency review of this information collection by OMB, as authorized by section 3507(j) of the Paperwork Reduction Act of 1995. The Agency gathers comments concerning: (a) The necessity of this information collection for the proper performance of the functions of the agency, including whether the information will have practical utility; (b) the accuracy of the agency's estimate of the burden (hours and cost) of the collection of information, including the validity of the methodology and assumptions used; (c) ways we could enhance the quality, utility, and clarity of the information to be collected; and (d) ways we could minimize the burden of the collection of the information on the respondents.

Please note that an agency may not conduct or sponsor, and an individual need not respond to, a collection of information unless it displays a valid OMB Control Number.

Title of Proposal: Tribal Investment in Commercial Electronic Health Records.

Type of Information Collection Request: EMERGENCY REQUEST.

OMB Control Number: To be assigned.

Need and Use of Information Collection: In the Explanatory Statement accompanying the 2021 Consolidation Appropriation Act, Congress directed IHS “to report back within 120 days of enactment of this Act with a list of Tribes that currently maintain their own non-RPMS electronic health record systems along with cost estimates required for those Tribes to implement, maintain, and make any necessary upgrades to these systems.” Because the IHS does not routinely collect or maintain this information, the Agency needs to issue a data call to Tribes and Urban Indian Organizations in order to prepare the required report to the requesting Committees.

Status of the Proposed Information Collection: New request.

Form(s): Spreadsheet (or form).

Agency Form Numbers: None.

Members of Affected Public: Tribes and Urban Indian Organizations.

The table below provides: Type of data collection instrument, Estimated number of respondents, Number of responses per respondent, Annual number of responses, Average burden hour per response, and Total annual burden hour(s).

Data collection instrument | Type of respondents | Number of responses per respondent | Total annual response | Burden per response (hours) | Estimated burden hours
Spreadsheet (1 page) | Tribes & Urban Indian Orgs | 1 | N/A | 1 | 1
Total (est.) |  | 40 |  | 40 | 40

There are no direct costs to respondents to report.

Elizabeth Fowler,
Acting Director, Indian Health Service.

[FR Doc. 2021-10409 Filed 5-17-21; 8:45 am]

BILLING CODE 4165-16-P